DEPARTMENT OF THE INTERIOR

Bureau of Land Management

[LLAK963000-L14300000-ET-P: F-81469, F-81490]

Public Land Order No. 7760; Extension of Public Land Order No. 6839; Alaska; Correction

AGENCY: Bureau of Land Management, Interior.

ACTION: Correction.

SUMMARY: The Bureau of Land Management published Public Land Order No. 7760 in the Federal Register on April 1, 2011 (76 FR 18244), extending PLO No. 6839 for another 20-year period. Public Land Order No. 7760 contains incorrect acreages for the encumbered land.

FOR FURTHER INFORMATION CONTACT: Robert L. Lloyd, BLM Alaska State Office, 222 West Seventh Avenue, #13, Anchorage, Alaska 99513-7504. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Public Land Order 6839 used a metes and bounds land description for the encumbered land. Public Land Order 6839 as extended by Public Land Order No. 7760 corrected the land description to align with the dependent resurvey of U.S. Survey No. 5253, Alaska, officially filed July 14, 2010. This resurvey established lots 13 and 16 of U.S. Survey No. 5253, within T. 23 N. R. 18 W., Umiat Meridian as the lands encumbered by the National Oceanic and Atmospheric Administration facility, and lots 14 and 15, of U.S. Survey No. 5253, within T. 23 N., R. 18 W., Umiat Meridian as the land encumbered by the United States Geological Survey facility. Further review revealed that an error had been made in the statement of acreage in Public Land Order No. 7760. This notice corrects that error.

Correction

Public Land Order No. 7760, published in the Federal Register on April 1, 2011 (76 FR 18244), on page 18245, in the first column, Paragraph 1, under the heading “Order,” which currently reads:

“The National Oceanic and Atmospheric Administration facility encumbers 171 acres for the Barrow Base Line Observatory. The United States Geological Survey facility encumbers 45 acres for the Barrow Magnetic Observatory.” is hereby corrected to read: “The National Oceanic and Atmospheric Administration facility encumbers 115 acres for the Barrow Base Line Observatory. The United States Geological Survey facility encumbers 101 acres for the Barrow Magnetic Observatory.”

Robert L. Lloyd,
Supervisor, Lands, Realty and Title Transfer Program, Division of Alaska Lands.

[FR Doc. 2011-21297 Filed 8-19-11; 8:45 am]

BILLING CODE 1410-JA-P